ENVIRONMENTAL PROTECTION AGENCY

[FRL-8310-2]

Meeting of the National Drinking Water Advisory Council—Notice of Public Meeting

AGENCY: Environmental Protection Agency.

ACTION: Notice.

SUMMARY: Under Section 10(a)(2) of Public Law 92-423, “The Federal Advisory Committee Act,” notice is hereby given of a meeting of the National Drinking Water Advisory Council (NDWAC), established under the Safe Drinking Water Act, as amended (42 U.S.C. 300f et seq.). The topics to be discussed and considered by the Council include EPA and utility activities to address emerging contaminants and climate change. EPA will consult with the Council on the Aircraft Drinking Water Rule and Lead and Copper Rule Revisions. The Council will also be briefed on activities to improve waterborne disease outbreak surveillance; investigation and reporting; activities to advance sustainable infrastructure and water security; and activities related to developing a management framework for geosequestration of carbon dioxide. If time permits, the Council will also be updated on the status of other regulatory and implementation activities underway in the national drinking water protection program.

DATES: The Council meeting will be held on May 23, 2007 from 1 p.m. to 5:30 p.m., May 24, 2007 from 9 a.m. to 5:30 p.m., and May 25, 2007 from 8:30 a.m. to noon, Eastern time.

ADDRESSES: The meeting will be held at the Courtyard Marriott Hotel, which is located at 8506 Fenton Street, Silver Spring, Maryland 20910.

FOR FURTHER INFORMATION CONTACT: Members of the public who would like to attend the meeting, present an oral statement, or submit a written statement, should contact Daniel Malloy, by e-mail at malloy.daniel@epa.gov, by phone 202-564-1724, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour (4:45-5:45 p.m.) on May 24, 2007 for this purpose. Oral statements will be limited to five minutes. It is preferred that only one person present the statement on behalf of a group or organization. To ensure adequate time for public involvement, individuals or organizations interested in presenting an oral statement should notify Daniel Malloy by telephone at 202-564-1724, no later than May 15, 2007. Any person who wishes to file a written statement can do so before or after a Council meeting. Written statements received by May 15, 2007 will be distributed to all members of the Council before any final discussion or vote is completed. Any statements received by May 15, 2007 or after the meeting will become part of the permanent meeting file and will be forwarded to the Council members for their information.

Special Accommodations

For information on access or services for individuals with disabilities, please contact Dan Malloy at 202-564-1724 or by e-mail at malloy.daniel@epa.gov. To request accommodation of a disability, please contact Dan Malloy, preferably at least 10 days prior to the meeting to give EPA as much time as possible to process your request.

Dated: May 1, 2007.
Pamela S. Barr,
Acting Director, Office of Ground Water and Drinking Water.

[FR Doc. E7-8654 Filed 5-3-07; 8:45 am]

BILLING CODE 6560-50-P